DEPARTMENT OF EDUCATION

Safe and Drug-Free Schools and Communities Advisory Committee

AGENCY: Office of Safe and Drug-Free Schools, Department of Education.

ACTION: Notice of open meeting.

SUMMARY: This notice sets forth the schedule and proposed agenda of an upcoming open meeting of The Safe and Drug-Free Schools and Communities Advisory Committee. The notice also describes the functions of the Committee. Notice of this meeting is required by section 10(a)(2) of the Federal Advisory Committee Act and is intended to notify the public of their opportunity to attend. This notice is appearing in the Federal Register less than 15 days before the date of the meeting due to scheduling issues.

DATES: Tuesday, June 13, 2006.

Time: 8 a.m.-12 noon.

ADDRESSES: The Committee will meet in Washington, DC, at The Holiday Inn Capitol, 550 C Street, SW., Washington, DC.

FOR FURTHER INFORMATION CONTACT: Phyllis Scattergood, Designated Federal Officer: The Safe and Drug-Free Schools and Communities Advisory Committee, Room 3E212, 400 Maryland Avenue, SW., Washington, DC telephone: (202) 260-0504, e-mail: phyllis.scattergood@ed.gov.

SUPPLEMENTARY INFORMATION: The Committee was established to provide advice to the Secretary on Federal, state and local programs designated to create safe and drug-free schools, and on issues related to crisis planning. The agenda will also include a discussion focused on the strategies to strengthen and improve the state formula program in order to ensure that schools and communities are implementing the best strategies and interventions, and are prepared to meet current and future needs of students. Further, the Committee will address strategies for accomplishing their mission as stated in their charter.

Individuals who will need accommodations for a disability in order to attend the meeting (e.g., interpreting services, assistive listening devices, or materials in alternative format) should notify Phyllis Scattergood at (202) 260-0504, or by e-mail at Phyllis/scattergood@ed.gov, no later than June 2, 2006. We will attempt to meet requests for accommodations after this date but cannot guarantee their availability. The meeting site is accessible to individuals with disabilities.

Individuals interested in attending the meeting must register in advance because of limited space issues. Please contact Phyllis Scattergood at (202) 260-0504 or by e-mail at Phyllis.scattergood@ed.gov.

Opportunities for public comment are available on June 13 from 9:30-10:30 a.m. on a first come, first served basis. Comments presented at the meeting must be limited to 5 minutes in length or can be submitted in writing by 5 p.m., June 11, 2006 by mail or e-mail to Phyllis Scattergood. Records are kept of all Committee proceedings and are available for public inspection at the staff office for the Committee from the hours of 9 a.m. to 5 p.m.

Dated: May 25, 2006.
Ray Simon,
Deputy Secretary, U.S. Department of Education.

[FR Doc. 06-4994 Filed 5-31-06; 8:45 am]

BILLING CODE 4000-01-M